DEPARTMENT OF EDUCATION

[Docket No.: ED-2017-ICCD-0073]

Agency Information Collection Activities; Submission to the Office of Management and Budget for Review and Approval; Comment Request; Historically Black Colleges and Universities Master's Degree Program

AGENCY: Office of Postsecondary Education (OPE), Department of Education (ED).

ACTION: Notice.

SUMMARY: In accordance with the Paperwork Reduction Act of 1995, ED is proposing a reinstatement of a previously approved information collection.

DATES: Interested persons are invited to submit comments on or before June 29, 2017.

ADDRESSES: To access and review all the documents related to the information collection listed in this notice, please use http://www.regulations.gov by searching the Docket ID number ED-2017-ICCD-0073. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact Sheryl Wilson, 202-453-7166.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Historically Black Colleges and Universities Master's Degree Program.

OMB Control Number: 1840-0806.

Type of Review: A reinstatement of a previously approved information collection.

Respondents/Affected Public: State, Local, and Tribal Governments.

Total Estimated Number of Annual Responses: 18.

Total Estimated Number of Annual Burden Hours: 306.

Abstract: The Higher Education Opportunity Act (HEOA) of 2008 amended Title VII, Subpart 4 of the Higher Education Act of 1965 to add a new master's degree program to advance educational opportunities for African Americans. Title VIII, Part AA, Section 897 of the Higher Education Act of 1965, as amended (HEA), authorizes and appropriates mandatory funding totaling $11.5 million annually for the master's degree program at HBCUs to provide grants to eligible institutions in this program for fiscal years (FY) 2009 through 2014. The new mandatory funding allocated for FY 2017 is $7,500,000. The Historically Black Colleges and Universities master's degree (HBCU-M) program authorizes the Department of Education (the Department) to award grants to specified institutions that the Department determines are making a substantial contribution to graduate education opportunities for African Americans at the master's level in mathematics, engineering, the physical or natural sciences, computer science, information technology, nursing, allied health or other scientific disciplines. This program provides grants for up to six years to establish or strengthen qualified master's degree programs in these fields at eligible institutions.

Dated: May 24, 2017.
Kate Mullan,
Acting Director, Information Collection Clearance Division, Office of the Chief Privacy Officer, Office of Management.

[FR Doc. 2017-11047 Filed 5-26-17; 8:45 am]

BILLING CODE 4000-01-P